DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding this information collection received by April 7, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Research Service

Title: Evaluation of User Satisfaction with NAL Internet Sites.

OMB Control Number: 0518-0040.

Summary of Collection: The National Agricultural Library (NAL) measures user satisfaction with internet sites in order for NAL to comply with Executive Order 12862, which directs federal agencies that provide significant services directly to the public to survey customers to determine the kind and quality of services they want and their level of satisfaction with existing services. NAL internet sites are a vast collection of web pages created and maintained by component organizations of NAL.

Need and Use of the Information: The purpose of the research is to ensure that intended audiences find the information provided on the internet sites easy to access, clear, informative, and useful. The research will provide a means by which to classify visitors to the NAL internet sites, to better understand how to serve them. The information generated from this research will enable NAL to evaluate the success of its web presence in support of its mission to facilitate the creation of agricultural knowledge through the acquisition, curation, and dissemination of the information needed to solve agricultural challenges today and in the future. If the information is not collected, NAL will be limited in its ability to provide accurate, timely information to its user community.

Description of Respondents: Individuals or households; business or other for-profit; not-for-profit institutions; farms; State, local or Tribal government.

Number of Respondents: 2,460.

Frequency of Responses: Reporting: annually.

Total Burden Hours: 328.

Ruth Brown,
Departmental Information Collection Clearance Officer.

[FR Doc. 2023-04678 Filed 3-7-23; 8:45 am]

BILLING CODE 3410-03-P